DEPARTMENT OF COMMERCE

Foreign-Trade Zones Board

[Docket 48-2011]

Foreign-Trade Zone 109—Watertown, NY; Application for Manufacturing Authority; North American Tapes, LLC; Comment Period on New Evidence

The FTZ Board is inviting public comment on new evidence submitted on behalf of North American Tapes, LLC (NAT), in the applicant's rebuttal to comments submitted by interested parties on the amended application requesting authority on behalf of NAT to manufacture athletic tape under FTZ procedures within FTZ 109 (76 FR 43259-43260, 7-20-2011; Amendment—77 FR 13263-13264, 3-6-2012). The rebuttal comments submitted on April 18, 2012, on behalf of NAT contained new evidence on which there has not been a chance for public comment. The comment period on the new evidence is open through May 30, 2012 to allow interested parties to comment on the new evidence in the applicant's rebuttal submission. Submissions shall be addressed to the Board's Executive Secretary at the following address: Office of the Executive Secretary, Room 2111, U.S. Department of Commerce, 1401 Constitution Avenue NW., Washington, DC 20230-0002.

For further information, contact Pierre Duy at Pierre.Duy@trade.gov or (202) 482-1378.

Dated: April 24, 2012.
Andrew McGilvray,
Executive Secretary.

[FR Doc. 2012-10353 Filed 4-27-12; 8:45 am]

BILLING CODE P